DEPARTMENT OF COMMERCE

National Oceanic and Atmospheric Administration

50 CFR Part 660

[Docket No. 001226367-0367-01; I.D. 090701C]

Fisheries off West Coast States and in the Western Pacific; Pacific Coast Groundfish Fishery; Pacific Whiting Allocation

AGENCY: National Marine Fisheries Service (NMFS), National Oceanic and Atmospheric Administration (NOAA), Commerce.

ACTION: Reapportionment of surplus Pacific whiting allocation; announcement of the reopening dates for the primary season for the shore-based sector; request for comments.

SUMMARY: NMFS has determined that the Indian tribal fishery will be unable to harvest 10,000 metric tons (mt) of their 2001 Pacific whiting (whiting) allocation. NMFS therefore, announces the reapportionment of surplus whiting from the tribal allocation to the catcher/processor, mothership, and shore-based sectors. This action is intended to provide for the full harvest of whiting available to the 2001 fishery.

DATES: Effective noon, local time (l.t.) September 17, 2001, unless modified, superseded, or rescinded, until the effective date of the 2002 annual specifications and management measures, which will be published in the Federal Register. Comments will be accepted through October 5, 2001.

ADDRESSES: Submit comments to Donna Acting Administrator, Northwest Region (Regional Administrator), NMFS, 7600 Sand Point Way NE., Seattle, WA 98115-0070; or Rod McInnis, Acting Regional Administrator, Southwest Region, NMFS, 501 West Ocean Blvd., Suite 4200, Long Beach, CA 90802-4213.

FOR FURTHER INFORMATION CONTACT: Becky Renko, 206-526-6110.

SUPPLEMENTARY INFORMATION: This action is authorized by regulations implementing the Pacific Coast Groundfish Fishery Management Plan (FMP), which governs the groundfish fishery off Washington, Oregon, and California. On January 11, 2001 (66 FR 2338), the levels of allowable biological catch (ABC), the optimum yield (OY) the tribal allocation, and the commercial OY (the OY minus the tribal allocation) for U.S. harvests of whiting were announced in the Federal Register. For 2001 the whiting ABC and OY are 190,400 mt (mt), the tribal whiting allocation is 27,500 mt, and the commercial OY is 162,900 mt.

Regulations at 50 CFR 660.323(a)(4) divide the commercial OY into separate allocations for the non-tribal catcher/processor, mothership, and shore-based sectors of the whiting fishery. The catcher/processor sector is composed of vessels that harvest and process whiting. The mothership sector is composed of motherships and catcher vessels that harvest whiting for delivery to motherships. Motherships are vessels that process, but do not harvest, whiting. The shoreside sector is composed of vessels that harvest whiting for delivery to shoreside processors. Each sector receives a portion of the commercial OY, with the catcher/processors getting 34 percent (55,386 mt), motherships getting 24 percent (39,096 mt), and the shore-based sector getting 42 percent (68,418 mt).

On August 31, 2001, NMFS received notification from the tribal fishery participants indicating that 10,000 mts of the tribal allocation was not expected to be harvested before the end of the fishing year. As a result, NMFS announces the reapportionment of the 10,000 mt surplus whiting from the tribal allocation to the catcher/processor, mothership, and shore-based sectors. Regulations at 50 CFR 660.323 (a)(3)(iv) provide for the reapportionment of allocation that the Regional Administrator determines will not be used by the end of the fishing year. Such reapportionments are to be disbursed in the same proportion as each sector's allotted portion of the commercial OY. Therefore, in addition to the allocations announced on January 11, 2001, the catcher/processors get an additional 3,400 mt(34 percent), the motherships get an additional 2,400 mt (24 percent), and the shore-based sector get an additional 4,200 mt (42 percent). The total allocation for 2001 by sector is: catcher/processor 58,786 mt, motherships 41,496 mt, and shore-based 72,618 mt.

NMFS announced the end of the 2001 primary season for the shore-based Pacific whiting fishery at noon local time (l.t.) August 21, 2001, because the allocation was projected to be reached at that time. To provide the shore-based participants access to the reapportioned whiting, this document announces the resumption of the primary season for the shore-based whiting fishery at noon l.t., Monday, September 17, 2001.

NMFS Action

This action announces the reapportionment of 10,000 mt of surplus whiting from the Indian tribal fishery to the catcher/processor, mothership, and shore-based sectors of the non-tribal whiting fishery. The revised tribal allocation for 2001 will be 17,500 mt. The commercial allocations for 2001 by sector are: catcher/processor 58,786 mt, motherships 41,496 mt, and shore-based 72,618 mt.

Effective noon l.t., Monday, September 17, 2001, the 2001 primary season for the shore-based sector of the whiting fishery resumes. If a vessel fishes shoreward of the 100 fm (183 m) contour in the Eureka area (43° - 40°30′ N. lat.) at any time during a fishing trip, a 10,000-lb (4,536 kg) trip limit applies, as announced in the annual management measures at paragraph IV, B (3)(c)(ii).

Classification

These actions are authorized by the FMP and regulations at 50 CFR part 660 subpart G, which governs the harvest of groundfish in the U.S. exclusive economic zone off the coasts of Washington, Oregon, and California. The determination to take these actions is based on the most recent fishery data and recent notification from the tribal representatives. Because of the need for immediate action, NMFS has determined that providing an opportunity for prior notice and comment would be impractical and contrary to public interest. Delay of this action could push the whiting season into inclement autumn weather. Because the shore-based and mothership sectors are composed of smaller catcher vessels, the agency believes that the risk of pushing the season into inclement weather constitutes good cause to waive the 30-day delay in effectiveness. In addition, the shore-based processors need an immediate reallocation if they are to keep their workers employed. These actions are taken under the authority of 50 CFR 660.323(a)(2), and are exempt from review under Executive Order 12866.

The determination to take this action is based on the most recent data available. The aggregate data upon which the determination is based are available for public inspection at the Office of the Regional Administrator (see ADDRESSES) during business hours. This action is taken under the authority of 50 CFR 660.323(a)(4)(iii)(A).

Authority: 16 U.S.C. 1801 et seq.

Dated: September 14, 2001.
Bruce C. Morehead,
Acting Director, Office of Sustainable Fisheries, National Marine Fisheries Service.

[FR Doc. 01-23471 Filed 9-17-01; 2:29 pm]

BILLING CODE 3510-22-S